DEPARTMENT OF JUSTICE

Notice of Lodging of Consent Decree Under Comprehensive Environmental Response, Compensation and Liability Act

Notice is hereby given that a partial consent decree in United States v. American Scrap Company, Civil Action No. 1:99-CV-2047, was lodged with the United States District Court for the Middle District of Pennsylvania on October 1, 2001. This notice was previously published in the Federal Register on October 15, 2001 and the public was given 30 days to comment. No comments were received. However, because of severe disruption in mail service to the Department of Justice, the United States is unable to conclude with certainty that any comments mailed in response to that notice would have been delivered to the Department of Justice. As a result, the United States is providing this opportunity for any persons who previously submitted comments to resubmit their comments as directed below.

The Partial Consent Decree resolves the United States' claims against Chemung Supply Corporation (“Settling Defendant”) under section 107(a) of the Comprehensive Environmental Response, Compensation and Liability Act (“CERCLA”), 42 U.S.C. 9607(a), for response costs incurred at the Jack's Creek/Sitkin Smelting Superfund Site in Mifflin County, Pennsylvania. The Partial Consent Decree requires the Settling Defendant to pay $210,000.00 in past response costs.

The Department of Justice will receive, for a period of twenty (20) days from the date of this publication, comments relating to the proposed consent decree that were previously submitted during the original comment period. Any persons who previously submitted comments should resubmit those comments by facsimile (at 202-616-6583) to the Assistant Attorney General for the Environment and Natural Resources Division, Department of Justice, Washington, DC 20530. The comments should refer to United States v. American Scrap Company, DOJ #90-11-2-911/1.

Alternatively, the comments may be mailed to the Office of the United States Attorney, ATTN: Anne Fiorenza, 228 Walnut Street, Harrisburg, PA 17108.

Copies of the proposed Partial Consent Decree may be examined at the Office of the United States Attorney, Middle District of Pennsylvania, 228 Walnut Street, Harrisburg, PA 17108, and at EPA Region III, 1650 Arch Street, Philadelphia, PA 19103-2029. A copy of the proposed Partial Consent Decree may be obtained by mail from the U.S. Department of Justice, Consent Decree Library, P.O. Box 7611, Washington, DC 20044-7611. When requesting a copy of the proposed Partial Consent Decree, please enclose a check to cover the twenty-five cents per page reproduction costs payable to the “Consent Decree Library” in the amount of $6.00, and reference United States v. American Scrap Company, DOJ # 90-11-2-911/1.

Robert D. Brook,
Assistant Chief, Environmental Enforcement Section, Environment and Natural Resources Division.

[FR Doc. 02-1152 Filed 1-15-02; 8:45 am]

BILLING CODE 4410-15-M